DEPARTMENT OF COMMERCE

International Trade Administration

Manufacturing and Services' Sustainable Manufacturing Initiative; Update

ACTION: Notice of second round of regional showcase tours in support of Commerce's Sustainable Manufacturing Initiative; notice of event in Seattle; request for suggestions of other cities and regions to be considered for future tours; request for volunteer hosts to be considered for future tours.

SUMMARY: As part of its Sustainable Manufacturing Initiative, the International Trade Administration's Manufacturing & Services Unit is planning a second round of regional facility tours across the United States that will showcase sustainable business practices at manufacturing firms and service providers. This round of tours will use the past round of Sustainable Manufacturing American Regional Tours (SMARTs) as a template by traveling to a number of cities and regions in order to demonstrate the feasibility and viability of sustainable business practices for U.S. firms. While the previous round of tours focused on manufacturers, this round will look at supply chains in various regions and sustainability issues affecting the competitiveness of firms in those supply chains.

DATES: Submit comments no later than 30 days after the date of this notice.

ADDRESSES: Address all comments concerning this notice to the Sustainable Manufacturing Initiative, U.S. Department of Commerce, Room 2213, 1401 Constitution Ave., NW., Washington, DC 20230 (or via the Internet at susmanuf@mail.doc.gov).

FOR FURTHER INFORMATION CONTACT: Matthew Howard in Manufacturing & Services' Office of Trade Policy Analysis, 202-482-3703.

SUPPLEMENTARY INFORMATION: Regional facility tours like the SMARTs are one of the main project areas of the Manufacturing and Services (MAS) Sustainable Manufacturing Initiative (SMI) and Public-Private Dialogue (for more information visit http://www.manufacturing.gov/sustainability). In order to provide effective and continued support to U.S. companies in their sustainable manufacturing efforts, MAS launched the SMI which (a) identifies U.S. industry's most pressing sustainability challenges and (b) facilitates public and private sector efforts to address these challenges.

As referenced in a July 2008 Federal Register notice (FR 42328, July 21, 2008), MAS held a series of SMARTs in 2008: St. Louis, MO (July 28, 2008), Grand Rapids, MI (September 3, 2008), and Rochester, NY (September 23, 2008). This first round of regional facility tours focused on U.S. manufacturers and showcased efforts at implementing and benefiting from cost-effective sustainable manufacturing practices. As company supply chains become the critical component to a firm's competitiveness, working with manufacturers and service providers on their sustainability practices will take on increasing importance. U.S. companies are concerned with cutting costs, meeting new regulatory challenges, the lack of visibility that sustainable business practices receive nationwide, and the lack of information U.S. manufacturers and service providers possess in this field. In order to continue spreading awareness of the cost-effectiveness of implementing sustainable business practices, especially the importance of sustainable supply chains, both to U.S. global competitiveness and the environment, MAS will begin its second round of regional facility tours in Seattle, Washington in July 2009 and will aim to visit at least two additional regions by the end of 2009.

The goal of these tours is to demonstrate to other similarly situated firms in the area that incorporating sustainable business techniques into the production and distribution cycle is not cost-prohibitive and, in fact, can help the long-term economic viability of American firms.

The event in Seattle will most likely be held in mid-July and will likely include tours of four facilities engaged in sustainable business practices at various points in a supply chain. Environmental managers, plant managers and other relevant company decision-makers from local small and medium-sized manufacturers and service providers who are interested in attending this event should contact the sustainable manufacturing team through the email address listed above. The team, in consultation with the local U.S. Export Assistance Center and Washington Manufacturing Services, will make a determination on attendance on a first-come-first-served basis, taking into account the criteria named above as well as the U.S. Export Assistance Center and Washington Manufacturing Services' knowledge of the local economy and the relevance of the event to individual firms in the Seattle area and to strive for the tour participants to reflect the diversity of the local business community within the manufacturing industry sector. Only one representative from each company will be invited to attend.

Each of the future events will most likely include tours of local manufacturing and service provider facilities that showcase firms that are incorporating sustainable business techniques into their business operations or have facilities that are otherwise sustainable. Manufacturing and Services seeks public input on possible cities and/or regions that would benefit from hosting a sustainable supply chain event or firms that would be willing to demonstrate and showcase their sustainable business capabilities and practices as part of a possible regional facility tour in their region. Responses to this notice should include a brief rationale as to why a particular firm, city or region would be a strong candidate for one of these events. Participants will not be paid.

Dated: June 16, 2009.
Matthew Howard,
Office of Trade Policy Analysis.

[FR Doc. E9-14485 Filed 6-19-09; 8:45 am]

BILLING CODE 3510-DR-P